DEPARTMENT OF LABOR

Occupational Safety and Health Administration

[Docket No. OSHA-2019-0002]

Respirable Crystalline Silica Standards for General Industry, Shipyards, and Construction; Extension of the Office of Management and Budget's (OMB) Approval of Information Collection (Paperwork) Requirements

AGENCY: Occupational Safety and Health Administration (OSHA), Labor.

ACTION: Request for public comments.

SUMMARY: OSHA solicits public comments concerning the proposal to extend OMB approval of the information collection requirements specified in the Respirable Crystalline Silica Standards for General Industry, Maritime, and Construction.

DATES: Comments must be submitted (postmarked, sent, or received) by May 22, 2023.

ADDRESSES:

Electronically: You may submit comments and attachments electronically at http://www.regulations.gov, which is the Federal eRulemaking Portal. Follow the instructions online for submitting comments.

Docket: To read or download comments or other material in the docket, go to http://www.regulations.gov. Documents in the docket are listed in the http://www.regulations.gov index; however, some information (e.g., copyrighted material) is not publicly available to read or download through the website. All submissions, including copyrighted material, are available for inspection through the OSHA Docket Office. Contact the OSHA Docket Office at (202) 693-2350 (TTY (877) 889-5627) for assistance in locating docket submissions.

Instructions: All submissions must include the agency name and the OSHA docket number (OSHA-2019-0002) for the Information Collection Request (ICR). OSHA will place all comments, including any personal information, in the public docket, which may be made available online. For further information on submitting comments, see the “Public Participation” heading in the section of this notice titled SUPPLEMENTARY INFORMATION.

FOR FURTHER INFORMATION CONTACT: Seleda Perryman or Theda Kenney, Directorate of Standards and Guidance, OSHA, U.S. Department of Labor, telephone (202) 693-2222.

SUPPLEMENTARY INFORMATION:

I. Background

The Department of Labor, as part of a continuing effort to reduce paperwork and respondent (i.e., employer) burden, conducts a preclearance process to provide the public with an opportunity to comment on proposed and continuing information collection requirements in accordance with the Paperwork Reduction Act of 1995 (PRA) (44 U.S.C. 3506(c)(2)(A)). This program ensures that information is in the desired format, the reporting burden (time and costs) is minimal, the collection instruments are clearly understood, and OSHA's estimate of the information collection burden is accurate. The Occupational Safety and Health Act of 1970 (the OSH Act) (29 U.S.C. 651 et seq.) authorizes information collection by employers as necessary or appropriate for enforcement of the OSH Act or for developing information regarding the causes and prevention of occupational injuries, illnesses, and accidents (see 29 U.S.C. 657). The OSH Act also requires that OSHA obtain such information with a minimum burden upon employers, especially those operating small businesses, and to reduce to the maximum extent feasible unnecessary duplication of effort in obtaining information (see 29 U.S.C. 657).

The Respirable Crystalline Silica Standards for general industry (29 CFR 1910.1053), shipyards (29 CFR 1915.1053) and construction (29 CFR 1926.1153) contain the following information collection requirements: conducting worker exposure assessments and notifying workers of the assessment results and any corrective actions being taken; establishing, implementing, reviewing, evaluating, and updating a written exposure control plan and making the plan available to workers and designated representatives; creating and submitting air quality permit notifications; establishing a respiratory protection program; providing qualitative fit-testing and maintaining records; providing medical surveillance to workers; providing the physician or other licensed health care provider (PLHCP), or the specialist, with specific information; ensuring that the PLHCP, or specialist, explains the results of the medical examination to the employee and provides each employee with a copy of their written medical report; obtaining a written medical opinion from the PLHCP, or specialist, and ensuring that each employee receives a copy of the opinion; and making and maintaining air monitoring data, objective data, and medical surveillance records; and providing workers and designated representatives with access to these records. The records are used by workers, employers, and OSHA to determine the effectiveness of the employer's compliance efforts.

II. Special Issues for Comment

OSHA has a particular interest in comments on the following issues:

• Whether the proposed information collection requirements are necessary for the proper performance of the agency's functions, including whether the information is useful;

• The accuracy of OSHA's estimate of the burden (time and costs) of the information collection requirements, including the validity of the methodology and assumptions used;

• The quality, utility, and clarity of the information collected; and

• Ways to minimize the burden on employers who must comply; for example, by using automated or other technological information collection and transmission techniques.

III. Proposed Actions

OSHA is requesting that OMB extend its approval of the information collection requirements contained in the Respirable Crystalline Silica Standards for General Industry, Maritime and Construction. The agency is requesting an adjustment decrease of 4,672,138 burden hours (from 12,468,266 to 7,796,128). The requested adjustment decrease is associated with the agency now zeroing out the burden hours of initial exposure assessments and the initial medical examinations for existing employees; and employers completing their written exposure assessment and respirator programs. In addition, the burden for rule familiarization and other one-time costs incurred within the first year was removed. Also, the agency is requesting an adjustment decrease of $132,079,926 for operation and maintenance costs (from $393,789,550 to $261,709,624) to adjust for substantially decreased estimates of initial exposure assessments and initial medical examinations.

Type of Review: Extension of a currently approved collection.

Title: Respirable Crystalline Silica Standards for General Industry (29 CFR 1910.1053) and Shipyards (29 CFR 1915.1053) and Construction (29 CFR 1926.1153).

OMB Control Number: 1218-0266.

Affected Public: Business or other for-profits.

Number of Respondents: 764,318.

Frequency: Biennially, Once, On occasion, Quarterly, Semi-annually, Annually.

Average Time per Response: Various.

Estimated Number of Responses: 17,203,330.

Estimated Total Burden Hours: 7,796,128.

Estimated Cost (Operation and Maintenance): $261,709,625.

IV. Public Participation—Submission of Comments on This Notice and Internet Access to Comments and Submissions

You may submit comments in response to this document as follows: (1) electronically at http://www.regulations.gov, which is the Federal eRulemaking Portal; (2) by facsimile (fax), if your comments, including attachments, are not longer than 10 pages you may fax them to the OSHA Docket Office at 202-693-1648; or (3) by hard copy. All comments, attachments, and other material must identify the agency name and the OSHA docket number for the ICR (Docket No. OSHA-2019-0002). You may supplement electronic submissions by uploading document files electronically.

Comments and submissions are posted without change at http://www.regulations.gov. Therefore, OSHA cautions commenters about submitting personal information such as social security numbers and dates of birth. Although all submissions are listed in the http://www.regulations.gov index, some information (e.g., copyrighted material) is not publicly available to read or download through this website. All submissions, including copyrighted material, are available for inspection and copying at the OSHA Docket Office. Information on using the http://www.regulations.gov website to submit comments and access the docket is available at the website's “User Tips” link.

Contact the OSHA Docket Office at (202) 693-2350, (TTY (877) 889-5627) for information about materials not available from the website, and for assistance in using the internet to locate docket submissions.

V. Authority and Signature

James S. Frederick, Deputy Assistant Secretary of Labor for Occupational Safety and Health, directed the preparation of this notice. The authority for this notice is the Paperwork Reduction Act of 1995 (44 U.S.C. 3506 et seq.) and Secretary of Labor's Order No. 8-2020 (85 FR 58393).

Signed at Washington, DC, on March 14, 2023.
James S. Frederick,
Deputy Assistant Secretary of Labor for Occupational Safety and Health.

[FR Doc. 2023-05723 Filed 3-20-23; 8:45 am]

BILLING CODE 4510-26-P